ENVIRONMENTAL PROTECTION AGENCY

40 CFR Part 141

[EPA-HQ-OW-2014-0408; FRL-9912-52-OW]

Expedited Approval of Alternative Test Procedures for the Analysis of Contaminants Under the Safe Drinking Water Act; Analysis and Sampling Procedures

Correction

In rule document 2014-14369, appearing on pages 35081 through 35096 in the issue of Thursday, June 19, 2014, make the following correction:

On page 35093, the table titled “ALTERNATIVE TESTING METHODS FOR CONTAMINANTS LISTED AT 40 CFR 141.852(a)(5)” should read as follows:

Alternative Testing Methods for Contaminants Listed at 40 CFR 141.852(a)(5)
Organism | Methodology category | Method | SM 20th, 21st editions ¹ ⁶ | SM 22nd Edition ²⁸ | SM Online ³
Total Coliforms | Lactose Fermentation Methods | Standard Total Coliform Fermentation Technique |  | 9221 B.1, B.2 | 9221 B.1, B.2-06.
| Enzyme Substrate Methods | Colilert® |  | 9223 B | 9223 B-04.
|  | Colisure® |  | 9223 B | 9223 B-04.
|  | Colilert-18® | 9223 B | 9223 B | 9223 B-04.
|  | Tecta EC/TC .³³
Escherichia coli | Escherichia coli Procedure (following Lactose Fermentation Methods) | EC-MUG medium |  | 9221 F.1 | 9221 F.1-06.
| Enzyme Substrate Methods | Colilert® |  | 9223 B | 9223 B-04.
|  | Colisure® |  | 9223 B | 9223 B-04.
|  | Colilert-18® | 9223 B | 9223 B | 9223 B-04.
|  | Tecta EC/TC.³³

[FR Doc. C1-2014-14369 Filed 6-26-14; 8:45 am]

BILLING CODE 1505-01-D